DEPARTMENT OF HOUSING AND URBAN DEVELOPMENT

[Docket No. FR-4809-N-42]

Federal Property Suitable as Facilities To Assist the Homeless

AGENCY: Office of the Assistant Secretary for Community Planning and Development, HUD.

ACTION: Notice

SUMMARY: This notice identifies unutilized, underutilized, excess, and surplus Federal property reviewed by HUD for suitability for possible use to assist the homeless.

FOR FURTHER INFORMATION CONTACT: Mark Johnston, room 7266, Department of Housing and Urban Development, 451 Seventh Street, SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this notice to identify Federal buildings and other real property that HUD has reviewed for suitability for use to assist the homeless. The properties were reviewed using information provided to HUD by Federal landholding agencies regarding unutilized and underutilized buildings and real property controlled by such agencies or by GSA regarding its inventory of excess or surplus Federal property. This notice is also published in order to comply with the December 12, 1988 Court Order in National Coalition for the Homeless v. Veterans Administration, No. 88-2503-OG (D.D.C.).

Properties reviewed are listed in this notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Shirley Kramer, Division of Property Management, Program Support Center, HHS, room 5B-41, 5600 Fishers Lane, Rockville, MD 20857; (301) 443-2265 (This is not a toll-free number). HHS will mail to the interested provider an application packet, which will include instructions for completing the application. In order to maximize the opportunity to utilize a suitable property, providers should submit their written expressions of interest as soon as possible. For complete details concerning the processing of applications, the reader is encouraged to refer to the interim rule governing this program, 24 CFR 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this notice. Homeless assistance providers interested in a review by HUD of the determination of unsuitability should call the toll free information line at 1-800-927-7588 for detailed instructions or write a letter to mark Johnston at the address listed at the beginning of this notice. Included in the request for review should be the property address (including ZIP Code), the date of publication in the Federal Register, the landholding agency, and the property number.

For more information regarding particular properties identified in this notice (i.e., acreage, floor plan, existing sanitary facilities, exact street address), providers should contact the appropriate landholding agencies at the following address: Army: Ms. Julie Jones-Conte, Department of the Army, Office of the Assistant Chief of Staff for Installation Management, Attn: DAIM-ME, Room 1E677, 600 Army Pentagon, Washington, DC 20310-0600; (703) 692-9223; Energy: Mr. Andy Duran, Department of Energy, Office of Engineering & Construction Management, ME-90, Washington, DC 20585; (202) 586-8715; GSA: Mr. Brian K. Polly, Assistant Commissioner, General Services Administration, Office of Property Disposal, 18th and F Streets, NW., Washington, DC 20405; (202) 501-0052; Interior: Ms. Linda Tribby, Acquisition & Property Management, Department of the Interior, 1849 C Street, NW., MS5512, Washington, DC 20240; (202) 219-0728; Navy: Mr. Charles C. Cocks, Director, Department of the Navy, Real Estate Policy Division, Naval Facilities Engineering Command, Washington Navy Yard, 1322 Patterson Ave., SE., Suite 1000, Washington, DC 20374-5065; (202) 685-9200. These are not toll-free numbers.

Dated: October 9, 2003.
John D. Garrity,
Director, Office of Special Needs Assistance Programs.

TITLE V, FEDERAL SURPLUS PROPERTY PROGRAM FEDERAL REGISTER REPORT FOR 10/17/2003

Suitable/Available Properties

Buildings (by State)

Washington

Bldg. 87

1917 Marsh Road

Yakima Co: WA 98901-

Landholding Agency: Interior

Property Number: 61200340006

Status: Unutilized

Comment: 1032 sq. ft., presence of asbestos/lead paint, most recent use—office, off-site use only

Bldg. 88

1917 Marsh Road

Yakima Co: WA 98901-

Landholding Agency: Interior

Property Number: 61200340007

Status: Unutilized

Comment: 1032 sq. ft., presence of asbestos/lead paint, most recent use—office, off-site use only

Land (by State)

North Carolina

0.99 acre

Camp Lejeune

Hubert Co: Onslow NC

Landholding Agency: Navy

Property Number: 77200340013

Status: Excess

Comment: land

Utah

0.5 acre

2968 W. Alice Way

West Valley Co: Salt Lake UT 84119-

Landholding Agency: GSA

Property Number: 54200340004

Status: Excess

Comment: paved

GSA Number: 7-U-UT-0515

Suitable/Unavailable Properties

Buildings (by State)

Mississippi

Federal Building

500 West Main Street

Tupelo Co: Lee MS 38801-

Landholding Agency: GSA

Property Number: 54200340002

Status: Surplus

Comment: 28,867 sq. ft., presence of asbestos/possible lead paint

GSA Number: 4-G-MS-0561

Land (by State)

Maryland

1 acre

Naval Air Station

Patuxent River Co: St. Mary's MD 20670-

Landholding Agency: Navy

Property Number: 77200340014

Status: Underutilized

Comment: 1 acre

Unsuitable Properties

Buildings (by State)

Alabama

Bldg. 7339A

Redstone Arsenal

Redstone Arsenal Co: Madison AL 35898-5000

Landholding Agency: Army

Property Number: 21200340011

Status: Unutilized

Reasons: Secured Area; Extensive deterioration

Bldg. 08025

Redstone Arsenal

Redstone Arsenal Co: Madison AL 35898-5000

Landholding Agency: Army

Property Number: 21200340012

Status: Unutilized

Reasons: Secured Area; Extensive deterioration

Alaska

Bldg. 968

Fort Richardson

Ft. Richardson Co: AK 99505-

Landholding Agency: Army

Property Number: 21200340001

Status: Unutilized

Reason: Extensive deterioration

Bldg. 27054

Fort Richardson

Ft. Richardson Co: AK 99505-

Landholding Agency: Army

Property Number: 21200340002

Status: Unutilized

Reason: Extensive deterioration

Bldgs. 28050, 28051, 28105

Fort Richardson

Ft. Richardson Co: AK 99505-

Landholding Agency: Army

Property Number: 21200340003

Status: Unutilized

Reason: Extensive deterioration

Bldg. 36015

Fort Richardson

Ft. Richardson Co: AK 99505-

Landholding Agency: Army

Property Number: 21200340004

Status: Unutilized

Reason: Extensive deterioration

Bldgs. 45094, 47782

Fort Richardson

Ft. Richardson Co: AK 99505-

Landholding Agency: Army

Property Number: 21200340005

Status: Unutilized

Reason: Extensive deterioration

Bldgs. 55294, 55298, 55805

Fort Richardson

Ft. Richardson Co: AK 99505-

Landholding Agency: Army

Property Number: 21200340006

Status: Unutilized

Reason: Extensive deterioration

Bldg. 2060

Fort Wainwright

Ft. Wainwright Co: AK 99703-6505

Landholding Agency: Army

Property Number: 21200340007

Status: Unutilized

Reasons: Within 2000 ft. of flammable or explosive material; Within airport runway clear zone

Bldg. 2108

Fort Wainwright

Ft. Wainwright Co: AK 99703-6505

Landholding Agency: Army

Property Number: 21200340008

Status: Unutilized

Reason: Extensive deterioration

Bldg. 4108

Fort Wainwright

Ft. Wainwright Co: AK 99703-6505

Landholding Agency: Army

Property Number: 21200340009

Status: Unutilized

Reason: Extensive deterioration

Bldg. 4391

Fort Wainwright

Ft. Wainwright Co: AK 99703-6505

Landholding Agency: Army

Property Number: 21200340010

Status: Unutilized

Reason: Extensive deterioration

California

Bldg. 1361

Marine Corps Base

Camp Pendleton Co: CA 92055-

Landholding Agency: Navy

Property Number: 77200340001

Status: Excess

Reason: Extensive deterioration

Bldg. 22135

Marine Corps Base

Camp Pendleton Co: CA 92055

Landholding Agency: Navy

Property Number: 77200340002

Status: Excess

Reason: Extensive deterioration

Bldg. 22136

Marine Corps Base

Camp Pendleton Co: CA 92055-

Landholding Agency: Navy

Property Number: 77200340003

Status: Excess

Reason: Extensive deterioration

Bldg. 22144

Marine Corps Base

Camp Pendleton Co: CA 92055-

Landholding Agency: Navy

Property Number: 77200340004

Status: Excess

Reason: Extensive deterioration

Bldg. 22147

Marine Corps Base

Camp Pendleton Co: CA 92055-

Landholding Agency: Navy

Property Number: 77200340005

Status: Excess

Reason: Extensive deterioration

Bldg. 22148

Marine Corps Base

Camp Pendleton Co: CA 92055-

Landholding Agency: Navy

Property Number: 77200340006

Status: Excess

Reason: Extensive deterioration

Bldg. 22149

Marine Corps Base

Camp Pendleton Co: CA 92055-

Landholding Agency: Navy

Property Number: 77200340007

Status: Excess

Reason: Extensive deterioration

Colorado

Bldgs. 112, 115

Rocky Flats Env Tech Site

Golden Co: Jefferson CO 80020-

Landholding Agency: Energy

Property Number: 41200340002

Status: Excess

Reasons: Within 2000 ft. of flammable or explosive material; Secured Area

Bldgs. 116, 119

Rocky Flats Env Tech Site

Golden Co: Jefferson CO 80020-

Landholding Agency: Energy

Property Number: 41200340003

Status: Excess

Reasons: Within 2000 ft. of flammable or explosive material; Secured Area

Bldgs. 120, 120B

Rocky Flats Env Tech Site

Golden Co: Jefferson CO 80020-

Landholding Agency: Energy

Property Number: 41200340004

Status: Excess

Reason: Secured Area

Bldgs. 121, 122, 122S

Rocky Flats Env Tech Site

Golden Co: Jefferson CO 80020-

Landholding Agency: Energy

Property Number: 41200340005

Status: Excess

Reasons: Within 2000 ft. of flammable or explosive material; Secured Area

Bldgs. 126, 127, 128

Rocky Flats Env Tech Site

Golden Co: Jefferson CO 80020-

Landholding Agency: Energy

Property Number: 41200340006

Status: Excess

Reasons: Within 2000 ft. of flammable or explosive material; Secured Area

Bldgs. 130, 131

Rocky Flats Env Tech Site

Golden Co: Jefferson CO 80020-

Landholding Agency: Energy

Property Number: 41200340007

Status: Excess

Reasons: Within 2000 ft. of flammable or explosive material; Secured Area

Bldg. 223

Rocky Flats Env Tech Site

Golden Co: Jefferson CO 80020-

Landholding Agency: Energy

Property Number: 41200340008

Status: Excess

Reasons: Within 2000 ft. of flammable or explosive material; Secured Area

Bldgs. 302, 303

Rocky Flats Env Tech Site

Golden Co: Jefferson CO 80020-

Landholding Agency: Energy

Property Number: 41200340009

Status: Excess

Reasons: Within 2000 ft. of flammable or explosive material; Secured Area

Bldgs. 331, 331A

Rocky Flats Env Tech Site

Golden Co: Jefferson CO 80020-

Landholding Agency: Energy

Property Number: 41200340010

Status: Excess

Reasons: Within 2000 ft. of flammable or explosive material; Secured Area

Bldgs. 334, 335

Rocky Flats Env Tech Site

Golden Co: Jefferson CO 80020-

Landholding Agency: Energy

Property Number: 41200340011

Status: Excess

Reasons: Within 2000 ft. of flammable or explosive material; Secured Area

Bldgs. 427, 439, 440

Rocky Flats Env Tech Site

Golden Co: Jefferson CO 80020-

Landholding Agency: Energy

Property Number: 41200340012

Status: Excess

Reasons: Within 2000 ft. of flammable or explosive material; Secured Area

Bldgs. 444, 445

Rocky Flats Env Tech Site

Golden Co: Jefferson CO 80020-

Landholding Agency: Energy

Property Number: 41200340013

Status: Excess

Reasons: Within 2000 ft. of flammable or explosive material; Secured Area

Bldgs. 447, 448

Rocky Flats Env Tech Site

Golden Co: Jefferson CO 80020-

Landholding Agency: Energy

Property Number: 41200340014

Status: Excess

Reasons: Within 2000 ft. of flammable or explosive material; Secured Area

Bldgs. 450, 451, 455

Rocky Flats Env Tech Site

Golden Co: Jefferson CO 80020-

Landholding Agency: Energy

Property Number: 41200340015

Status: Excess

Reasons: Within 2000 ft. of flammable or explosive material; Secured Area

Bldg. 460

Rocky Flats Env Tech Site

Golden Co: Jefferson CO 80020-

Landholding Agency: Energy

Property Number: 41200340016

Status: Excess

Reasons: Within 2000 ft. of flammable or explosive material; Secured Area

6 Bldgs.

Rocky Flats Env Tech Site

Golden Co: Jefferson CO 80020-

Location: 549, 551, 552, 553, 554, 556

Landholding Agency: Energy

Property Number: 41200340017

Status: Excess

Reasons: Within 2000 ft. of flammable or explosive material; Secured Area

Bldgs. 664, 668

Rocky Flats Env Tech Site

Golden Co: Jefferson CO 80020-

Landholding Agency: Energy

Property Number: 41200340018

Status: Excess

Reasons: Within 2000 ft. of flammable or explosive material; Secured Area

Bldgs. 920, 920B

Rocky Flats Env Tech Site

Golden Co: Jefferson CO 80020-

Landholding Agency: Energy

Property Number: 41200340019

Status: Excess

Reason: Secured Area

Connecticut

Bldgs. A92, A93, A94

Naval Submarine Base

Groton Co: New London CT 06349-

Landholding Agency: Navy

Property Number: 77200340008

Status: Unutilized

Reasons: Within 2000 ft. of flammable or explosive material; Secured Area

Georgia

Bldg. 00111

Fort Gillem

Ft. Gillem Co: Forest Park GA 30050-5101

Landholding Agency: Army

Property Number: 21200340013

Status: Unutilized

Reason: Extensive deterioration

Bldg. 00116

Fort Gillem

Ft. Gillem Co: Forest Park GA 30050-5101

Landholding Agency: Army

Property Number: 21200340014

Status: Unutilized

Reason: Extensive deterioration

Bldg. 00226

Fort Gillem

Ft. Gillem Co: Forest Park GA 30050-5101

Landholding Agency: Army

Property Number: 21200340015

Status: Unutilized

Reason: Extensive deterioration

Bldgs. 00733, 00753

Fort Gillem

Ft. Gillem Co: Forest Park GA 30050-5101

Landholding Agency: Army

Property Number: 21200340016

Status: Unutilized

Reason: Extensive deterioration

Hawaii

Bldg. 450

Fleet Ind. Supply Center

Pearl Harbor Co: Honolulu HI 96860-

Landholding Agency: Navy

Property Number: 77200340009

Status: Unutilized

Reasons: Secured Area; Extensive deterioration

Bldg. 10

NAVMAG

Lualualei Co: Honolulu HI 96792-

Landholding Agency: Navy

Property Number: 77200340010

Status: Unutilized

Reasons: Secured Area; Extensive deterioration

Bldg. 417

NAVMAG

Lualualei Co: Honolulu HI 96792-

Landholding Agency: Navy

Property Number: 77200340011

Status: Unutilized

Reasons: Secured Area; Extensive deterioration

Bldg. 419

NAVMAG

Lualualei Co: Honolulu HI 96792-

Landholding Agency: Navy

Property Number: 77200340012

Status: Unutilized

Reasons: Secured Area; Extensive deterioration

Iowa

Bldgs. 00152, 00895

Iowa Army Ammo Plant

Middletown Co: Des Moines IA 52638-

Landholding Agency: Army

Property Number: 21200340017

Status: Unutilized

Reasons: Within 2000 ft. of flammable or explosive material; Secured Area

Kentucky

Bldgs. 02968, 04555

Fort Knox

Ft. Knox Co: KY 40121-

Landholding Agency: Army

Property Number: 21200340018

Status: Unutilized

Reason: Extensive deterioration

Massachusetts

Bldgs. T4321, T4344

Devens RFTA

Devens Co: MA 01432-4429

Landholding Agency: Army

Property Number: 21200340019

Status: Unutilized

Reason: Extensive deterioration

Bldgs. T4354, T4394,

Devens RFTA

Devens Co: MA 01432-4429

Landholding Agency: Army

Property Number: 21200340020

Status: Unutilized

Reason: Extensive deterioration

Bldg. T4364

Devens RFTA

Devens Co: MA 01432-4429

Landholding Agency: Army

Property Number: 21200340021

Status: Unutilized

Reason: Extensive deterioration

New Jersey

Bldg. P4329

Fort Dix

Ft. Dix Co: Burlington NJ 08640-5506

Landholding Agency: Army

Property Number: 21200340022

Status: Unutilized

Reason: Extensive deterioration

Bldg. P4334

Fort Dix

Ft. Dix Co: Burlington NJ 08640-5506

Landholding Agency: Army

Property Number: 21200340023

Status: Unutilized

Reason: Extensive deterioration

Bldgs. T9428, T9422

Fort Dix

Ft. Dix Co: Burlington NJ 08640-5506

Landholding Agency: Army

Property Number: 21200340024

Status: Unutilized

Reason: Extensive deterioration

Bldg. T9461

Fort Dix

Ft. Dix Co: Burlington NJ 08640-5506

Landholding Agency: Army

Property Number: 21200340025

Status: Unutilized

Reason: Extensive deterioration

Bldgs. T9489, T9468

Fort Dix

Ft. Dix Co: Burlington NJ 08640-5506

Landholding Agency: Army

Property Number: 21200340026

Status: Unutilized

Reason: Extensive deterioration

New York

Bldg. 00138

Fort Drum

Ft. Drum Co: Jefferson NY 13602-

Landholding Agency: Army

Property Number: 21200340027

Status: Unutilized

Reason: Extensive deterioration

Bldg. T-215

Fort Drum

Ft. Drum Co: Jefferson NY 13602-

Landholding Agency: Army

Property Number: 21200340028

Status: Unutilized

Reason: Extensive deterioration

Bldg. 00526

Fort Drum

Ft. Drum Co: Jefferson NY 13602-

Landholding Agency: Army

Property Number: 21200340029

Status: Unutilized

Reason: Extensive deterioration

Gardiners Point

Long Island Co: Suffolk NY

Landholding Agency: GSA

Property Number: 54200340003

Status: Excess

Reasons: no access/unexploded ordnance; Extensive deterioration

GSA Number: 1-N-NY-897

North Carolina

Bldgs. C3731, C3831

Fort Bragg

Ft. Bragg Co: Cumberland NC 28310-

Landholding Agency: Army

Property Number: 21200340030

Status: Excess

Reason: Extensive deterioration

Bldgs. C5430, C5528

Fort Bragg

Ft. Bragg Co: Cumberland NC 28310-

Landholding Agency: Army

Property Number: 21200340031

Status: Excess

Reason: Extensive deterioration

Bldgs. C5626, C5630

Fort Bragg

Ft. Bragg Co: Cumberland NC 28310-

Landholding Agency: Army

Property Number: 21200340032

Status: Excess

Reason: Extensive deterioration

Bldgs. C5725, C5823, C5826

Fort Bragg

Ft. Bragg Co: Cumberland NC 28310-

Landholding Agency: Army

Property Number: 21200340033

Status: Excess

Reason: Extensive deterioration

Bldgs. C6032, C6231, C6329

Fort Bragg

Ft. Bragg Co: Cumberland NC 28310-

Landholding Agency: Army

Property Number: 21200340034

Status: Excess

Reason: Extensive deterioration

Bldgs. C6427, C6432, C6433

Fort Bragg

Ft. Bragg Co: Cumberland NC 28310-

Landholding Agency: Army

Property Number: 21200340035

Status: Excess

Reason: Extensive deterioration

Bldgs. C6525, C6530

Fort Bragg

Ft. Bragg Co: Cumberland NC 28310-

Landholding Agency: Army

Property Number: 21200340036

Status: Excess

Reason: Extensive deterioration

Bldgs. C6628, C6726, C6931

Fort Bragg

Ft. Bragg Co: Cumberland NC 28310-

Landholding Agency: Army

Property Number: 21200340037

Status: Excess

Reason: Extensive deterioration

Bldgs. C7037, C7137

Fort Bragg

Ft. Bragg Co: Cumberland NC 28310-

Landholding Agency: Army

Property Number: 21200340038

Status: Excess

Reason: Extensive deterioration

Bldgs. C7236, C7334, C7339

Fort Bragg

Ft. Bragg Co: Cumberland NC 28310-

Landholding Agency: Army

Property Number: 21200340039

Status: Excess

Reason: Extensive deterioration

Bldgs. C7433, C7437

Fort Bragg

Ft. Bragg Co: Cumberland NC 28310-

Landholding Agency: Army

Property Number: 21200340040

Status: Excess

Reason: Extensive deterioration

Bldgs. C7535, C7540

Fort Bragg

Ft. Bragg Co: Cumberland NC 28310-

Landholding Agency: Army

Property Number: 21200340041

Status: Excess

Reason: Extensive deterioration

Bldgs. C7634, C7732

Fort Bragg

Ft. Bragg Co: Cumberland NC 28310-

Landholding Agency: Army

Property Number: 21200340042

Status: Excess

Reason: Extensive deterioration

Bldg. 25453

Fort Bragg

Ft. Bragg Co: Cumberland NC 28310-

Landholding Agency: Army

Property Number: 21200340043

Status: Excess

Reason: Extensive deterioration

Bldg. 37225

Fort Bragg

Ft. Bragg Co: Cumberland NC 28310-

Landholding Agency: Army

Property Number: 21200340044

Status: Excess

Reason: Extensive deterioration

Bldg. 37450

Fort Bragg

Ft. Bragg Co: Cumberland NC 28310-

Landholding Agency: Army

Property Number: 21200340045

Status: Excess

Reason: Extensive deterioration

Ohio

Bldg. T091

Defense Supply Center

Columbus Co: Franklin OH 43216-5000

Landholding Agency: Army

Property Number: 21200340046

Status: Unutilized

Reason: Extensive deterioration

Pennsylvania

Bldg. 00011

Defense Distribution Depot

New Cumberland Co: York PA 17070-5002

Landholding Agency: Army

Property Number: 21200340047

Status: Unutilized

Reason: Extensive deterioration

Bldg. 00060

Defense Distribution Depot

New Cumberland Co: York PA 17070-5002

Landholding Agency: Army

Property Number: 21200340048

Status: Unutilized

Reason: Extensive deterioration

Bldg. 00086

Defense Distribution Depot

New Cumberland Co: York PA 17070-5002

Landholding Agency: Army

Property Number: 21200340049

Status: Unutilized

Reason: Extensive deterioration

Bldgs. 00402, 00442

Defense Distribution Depot

New Cumberland Co: York PA 17070-5002

Landholding Agency: Army

Property Number: 21200340050

Status: Unutilized

Reason: Extensive deterioration

Bldg. 02006

Defense Distribution Depot

New Cumberland Co: York PA 17070-5002

Landholding Agency: Army

Property Number: 21200340051

Status: Unutilized

Reason: Extensive deterioration

Puerto Rico

Bldgs. 01108, 01119, 01128

Fort Buchanan

Ft. Buchanan Co: Guaynabo PR 00934-

Landholding Agency: Army

Property Number: 21200340052

Status: Excess

Reasons: Secured Area; Extensive deterioration

Bldgs. 01222, 01251, 01258

Fort Buchanan

Ft. Buchanan Co: Guaynabo PR 00934-

Landholding Agency: Army

Property Number: 21200340053

Status: Excess

Reasons: Secured Area; Extensive deterioration

Bldgs. 01260, 01262, 01264

Fort Buchanan

Ft. Buchanan Co: Guaynabo PR 00934-

Landholding Agency: Army

Property Number: 21200340054

Status: Excess

Reasons: Secured Area; Extensive deterioration

Bldgs. 01266, 01268, 01270

Fort Buchanan

Ft. Buchanan Co: Guaynabo PR 00934-

Landholding Agency: Army

Property Number: 21200340055

Status: Excess

Reasons: Secured Area; Extensive deterioration

Tennessee

Bldg. A-35

Holston Army Ammo Plant

Kingsport Co: Sullivan TN 37660-

Landholding Agency: Army

Property Number: 21200340056

Status: Unutilized

Reason: Within 2000 ft. of flammable or explosive material; Secured Area

Bldg. SC-3

ORISE

Oak Ridge Co: Anderson TN 37831-

Landholding Agency: Energy

Property Number: 41200340001

Status: Unutilized

Reasons: Secured Area; Extensive deterioration

Texas

Bldg. 1159

Fort Bliss

El Paso Co: TX 79916-

Landholding Agency: Army

Property Number: 21200340057

Status: Unutilized

Reason: Extensive deterioration

Bldg. 6078

Fort Bliss

El Paso Co: TX 79916-

Landholding Agency: Army

Property Number: 21200340058

Status: Unutilized

Reason: Extensive deterioration

Bldg. 7289

Fort Bliss

El Paso. Co: TX 79916-

Landholding Agency: Army

Property Number: 21200340059

Status: Unutilized

Reason: Extensive deterioration

Bldgs. 11309, 11311

Fort Bliss

El Paso. Co: TX 79916-

Landholding Agency: Army

Property Number: 21200340060

Status: Unutilized

Reason: Extensive deterioration

Bldgs. D5026, D5027, D5029,

Grand Prairie Reserve Complex

Grand Prairie Co: Tarrant TX 75051-

Landholding Agency: Army

Property Number: 21200340061

Status: Unutilized

Reason: Extensive deterioration

Bldgs. YAREA

Longhorn Army Ammo Plant

Kamack Co: Harrison TX 75661-

Location: 0003Y, 0004Y, 004Y2, 0013Y, 0016Y, 16Y1, 16Y2, 0018Y, 018Y1, 0029Y, 0032Y, 0034Y, 0038Y, 0040Y, 0045Y

Landholding Agency: Army

Property Number: 21200340062

Status: Excess

Reason: Secured Area

Bldgs. P-3X, 3X-4 of 5

Longhorn Army Ammo Plant

Karnack Co: Harrison TX 75661-

Location: 00P10, 00P11, 0046A, 0049B, 0053B, 0054B, 0055B, 0056B, 0059B, 0060B, 0068F, 0026E, 0032E, 0029D

Landholding Agency: Army

Property Number: 21200340063

Status: Excess

Reason: Secured Area

Bldgs. P-3X, 3X-3 of 5

Longhorn Army Ammo Plant

Karnack Co: Harrison TX 75661-

Location: 00S13, 00P13, 00B10, 00B16, SHEDC, 00B15, 00B13, 00B11, 000B9, 000B7, SHEDJ, SHEDD, 000M4, 000P3, 000P1

Landholding Agency: Army

Property Number: 21200340064

Status: Excess

Reason: Secured Area

Bldgs. P-3X 5 of 5

Longhorn Army Ammo Plant

Karnack Co: Harrison TX 75661-

Location: 0025D, 0025C, 0050G, 0054F, 0053D, 0054G, 0031G, 00403, 00406, 00408, 00409, 0016T, 0020T, 0035T, 0036T036T1

Landholding Agency: Army

Property Number: 21200340065

Status: Excess

Reason: Secured Area

Bldgs. Inert SH1of 3

Longhorn Army Ammo Plant

Karnack Co: Harrison TX 75661-

Location: 00101, 00102, 0102R, 00103, 000L6, 00402, 000L5, SHEDL, SHEDB, 0061I, 0060I, 0022B, 0032B, 0029A, 0031A

Landholding Agency: Army

Property Number: 21200340066

Status: Excess

Reason: Secured Area

Bldgs. Inert SH3of 3

Longhorn Army Ammo Plant

Karnack Co: Harrison TX 75661-

Location: 016T1, 020T1, 0034T, 034T1, 0020X, 022X1

Landholding Agency: Army

Property Number: 21200340067

Status: Excess

Reason: Secured Area

Bldgs. SH2 of 3

Longhorn Army Ammo Plant

Karnack Co: Harrison TX 75661-

Location: 068G1, 068F1, 0022B, 0032B, 054F1, 0040H, 00402, 00404, 00405, 0018G, 0015G, 0009G, 0010G, 0011G

Landholding Agency: Army

Property Number: 21200340068

Status: Excess

Reason: Secured Area

Bldgs. Inert

Longhorn Army Ammo Plant

Karnack Co: Harrison TX 75661-

Location: 00703, 0703A, 0703C, 0707E, 0018K, 01ST1, 0201A, 00202, 00204, 0022G, 0025G, 0031W, 0049W, 0501E, 510B2, 0601B, 018K1

Landholding Agency: Army

Property Number: 21200340069

Status: Excess

Reason: Secured Area

Bldgs. SHOPS

Longhorn Army Ammo Plant

Karnack Co: Harrison TX 75661-

Location: 00723, 0722P, 0704D, 00715, 00744, 0722G

Landholding Agency: Army

Property Number: 21200340070

Status: Excess

Reason: Secured Area

Bldgs. Magaz

Longhorn Army Ammo Plant

Karnack Co: Harrison TX 75661-

Location: 08111, 08117, 81110, 81111, 81112, 81113, 81114, 81117, 81118, 81121, 81122, 81124, 81128, 81141, 81143, 81156

Landholding Agency: Army

Property Number: 21200340071

Status: Excess

Reason: Secured Area

Bldgs. P-3X SHT1of 5

Longhorn Army Ammo Plant

Karnack Co: Harrison TX 75661-

Location: 02121thru21211, 21214thru21221, 21223, 21225, 21227, 21231Dthru21240, 21242, 21244, 21246, 21248

Landholding Agency: Army

Property Number: 21200340072

Status: Excess

Reason: Secured Area

Bldgs. P-3X SHT2of5

Longhorn Army Ammo Plant

Karnack Co: Harrison TX 75661-

Location: 21250thru21257, 21259, 0027X, 0022X, 0035X

Landholding Agency: Army

Property Number: 21200340073

Status: Excess

Reason: Secured Area

Virginia

Bldg. 02611

Fort Lee

Ft. Lee Co: Prince George VA 23801-

Landholding Agency: Army

Property Number: 21200340074

Status: Unutilized

Reason: Extensive deterioration

Washington

Bldg. 81

39307 Kelly Road

Benton City Co: Benton WA 99320-

Landholding Agency: Interior

Property Number: 61200340001

Status: Unutilized

Reason: Extensive deterioration

Garage/81

39307 Kelly Road

Benton City Co: Benton WA 99320-

Landholding Agency: Interior

Property Number: 61200340002

Status: Unutilized

Reason: Extensive deterioration

Bldg. 73

1171 Beane Road

Moxee Co: Yakima WA 98936-

Landholding Agency: Interior

Property Number: 61200340003

Status: Unutilized

Reason: Extensive deterioration

Garage/73

1171 Beane Road

Moxie Co: Yakima WA 98936-

Landholding Agency: Interior

Property Number: 61200340004

Status: Unutilized

Reason: Extensive deterioration

Bldg. 129

1917 Marsh Road

Yakima Co: WA 98901-

Landholding Agency: Interior

Property Number: 61200340005

Status: Unutilized

Reason: Extensive deterioration

Unsuitable Properties

Land (by State)

Alabama

Tract E715

Demopolis Lock & Dam

Greensboro Co: Hale AL 36744-

Landholding Agency: GSA

Property Number: 54200340001

Status: Excess

Reason: no legal access

GSA Number: 4-D-AL-564D-I

Alaska

0.56 acre

Sitka Airport

Sitka Co: AK

Landholding Agency: GSA

Property Number: 54200340005

Status: Excess

Reasons: Within 2000 ft. of flammable or explosive material; Within airport runway clear zone

GSA Number: 9-I-AK-791

[FR Doc. 03-26034 Filed 10-16-03; 8:45 am]

BILLING CODE 4210-29-M